NUCLEAR REGULATORY COMMISSION

[NRC-2014-0129]

Embedded Digital Devices In Safety-Related Systems

AGENCY: Nuclear Regulatory Commission.

ACTION: Regulatory issue summary; issuance.

SUMMARY: The U.S. Nuclear Regulatory Commission (NRC) is issuing Regulatory Issue Summary (RIS) 2016-05, “Embedded Digital Devices In Safety-Related Systems.” This RIS clarifies the NRC staff's position on existing regulatory requirements for the quality and reliability of safety-related equipment with embedded digital devices. Furthermore, the purpose of this RIS is to raise awareness that there may be potential safety issues from a postulated common cause failure (CCF) if an undetected software error should occur in embedded digital devices located in multiple trains of redundant safety equipment in nuclear facilities.

DATES: The RIS is available as of May 6, 2016.

ADDRESSES: Please refer to Docket ID NRC-2014-0129 when contacting the NRC about the availability of information regarding this document. You may obtain publicly-available information related to this document using any of the following methods:

• Federal Rulemaking Web site: Go to http://www.regulations.gov and search for Docket ID NRC-2014-0129. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. This RIS is available under ADAMS Accession Number ML15118A015.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2015” and then select “RIS 15-12”).

FOR FURTHER INFORMATION CONTACT: Eugene Eagle, Office of Nuclear Reactor Regulation, telephone: 301-415-3706; email: Eugene.Eagle@nrc.gov and Ian Jung, Office of New Reactors, telephone: 301-415-2969; email: Ian.Jung@nrc.gov. Both are staff of the U.S. Nuclear Regulatory Commission, Washington, DC 20555-0001.

SUPPLEMENTARY INFORMATION:

The NRC published a notice of opportunity for public comment on draft RIS 2013-XX, “Embedded Digital Devices in Safety-Related Systems, Systems Important to Safety, and Items Relied on For Safety” (ADAMS Accession No. ML12248A065), in the Federal Register (78 FR 29392) on May 20, 2013. A table of the public comments received on the draft RIS with the NRC staff response is publicly available electronically (ADAMS Accession No. ML13351A204).

Based on the public comments received, the NRC published a notice of opportunity for public comment on revised draft RIS 2014-XX, “Embedded Digital Devices in Safety-Related Systems,” (ADAMS Accession No. ML13338A769) in the Federal Register (79 FR 32578) on June 5, 2014. A table of the public comments received on the revised draft RIS with the NRC staff response is publicly available electronically (ADAMS Accession No. ML15118A012).

Dated at Rockville, Maryland, this 3rd day of May, 2016.
For the Nuclear Regulatory Commission.
Sheldon D. Stuchell,
Chief, Generic Communications Branch, Division of Policy and Rulemaking, Office of Nuclear Reactor Regulation.

[FR Doc. 2016-10693 Filed 5-5-16; 8:45 am]

BILLING CODE 7590-01-P